DEPARTMENT OF TRANSPORTATION

Office of the Secretary

[Docket No. DOT-OST-2015-0160]

Privacy Act of 1974; Department of Transportation/ALL 8, Parking and Transit Benefit System

AGENCY: Privacy Office, Office of the Secretary of Transportation, DOT.

ACTION: Notice of Privacy Act system of records.

SUMMARY: In accordance with the Privacy Act of 1974, the U.S. Department of Transportation proposes to rename, update, and reissue the Department of Transportation system of records currently titled, “Department of Transportation/ALL 8 Employee Transportation Facilitation System of Records.” This system of records allows the Department of Transportation/Office of the Secretary to collect and maintain records on Department of Transportation employees who participate in the Department's transit, carpool/vanpool, bicycle and parking benefit program, employees of other Federal agencies for whom DOT administers a Federal carpool/vanpool, and/or parking and transit benefit program. It also allows the Federal Aviation Administration to collect and maintain records on behalf of its employees who participate in transit and parking benefit programs administered by the Federal Aviation Administration. In addition to non-substantive changes to simply the formatting and text of the previously published notice, we are revising this notice to reflect System Manager's address change, and clarify the routine uses of information in the system. This updated system will be renamed and included in the Department of Transportation's inventory of record systems and referred to as “DOT/ALL 8—Parking and Transit Benefit System.”

DATES: Written comments should be submitted on or before November 23, 2015. The Department may publish an amended SORN in light of any comments received. This revised system will be effective November 23, 2015.

ADDRESSES: You may submit comments, identified by docket number DOT-OST-2015-0160 by any of the following methods:

• Federal e-Rulemaking Portal:http://www.regulations.gov. Follow the instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9 a.m. and 5 p.m. ET, Monday through Friday, except Federal Holidays.

• Fax: (202) 493-2251.

Instructions: You must include the agency name and docket number DOT-OST-2015-0160. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement in the Federal Register published on January 17, 2008 (73 FR 3316-3317).

Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or (202) 527-3284.

SUPPLEMENTARY INFORMATION:

I. Background

The DOT/Office of the Secretary (OST) manages a Transportation Subsidy Program (TSP) and facilitates the distribution of public-transport fare media to DOT and other Federal Agency employees, to schedule distribution of the fare media, to maintain an inventory of fare media on hand, and to manage the fare media billing. DOT administers the TSP for its employees, and, also, for employees of other Federal agencies through Interagency Agreements between DOT and the employer-agency. Additionally, the Office of Transportation Services (TRANServe), within DOT's Office of the Assistant Secretary for Administration, manages the bicycle benefit program and the vehicle parking resources at the DOT South East Federal Center (SEFC) Headquarters Facility. Parking at the Headquarters Facility is allocated via the DOT Headquarters Parking Application (DOT HPA) reservation system. The Federal Aviation Administration (FAA) administers its own parking and transit benefit program for FAA employees in the Washington, DC area (transit and parking benefits for FAA field office employees are administered by OST).

In accordance with the Privacy Act of 1974, 5 U.S.C. 552a, the U.S. Department of Transportation (DOT)/Office of the Secretary of Transportation (OST) proposes to rename, update, and reissue the DOT system of records currently titled, “DOT/ALL-8 Employee Transportation Facilitation.” This system of records will be renamed “DOT/ALL-8, Parking and Transit Benefit System.”

In addition, we are updating this system of records notice to reflect the change in the system manager's address resulting from DOT's move from its previous headquarters location at 400 7th Street SW., Washington, DC 20950, to its new location of 1200 New Jersey Ave. SE., Washington, DC 20590. We have also updated the system to provide greater detail about the categories of records collected and maintained, and include additional categories to reflect DOT's administration of the bicycle benefit program. Additionally, DOT will begin to collect the names of other riders in van pools (in addition to those individuals who are participating in the TSP). DOT will collect this information to aid in efforts to identify potential waste, fraud, and abuse. Finally, we are updating the routine uses to provide greater clarity and specificity to our routine uses of the information in this system. The current SORN generally describes the routine uses for this system in a narrative format. We wish to update this to provide great specificity about who we disclose these records to and the purposes for which we make the disclosure. We believe that these changes do not substantively alter the current routine uses, but merely provide greater transparency.

This updated system will be included in DOT's inventory of record systems.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM OF RECORDS:

DOT/ALL 8

SYSTEM NAME:

Parking and Transit Benefit System.

SECURITY CLASSIFICATION:

Unclassified, sensitive.

SYSTEM LOCATION:

Department of Transportation, Office of the Secretary, Parking and Transit Benefit Office, 1200 New Jersey Ave. SE., Washington, DC 20950; Federal Aviation Administration, Transit Benefit Office, 800 Independence Ave. SW., Washington, DC 20591.

CATEGORIES OF INDIVIDUALS COVERED BY THE SYSTEM:

Federal employees' who receive transit or bicycle subsidies, who hold parking permits, or are members of carpools and vanpools; applicants for ridesharing information; recipients of match letters for carpooling; applicants for transit subsidies issued by DOT; vanpool operators.

CATEGORIES OF RECORDS IN THE SYSTEM:

Categories of records in the system include:

The following information about recipients of bicycle or transit subsidies; holders of parking permits, participants in carpools or vanpools; or applicants for ridesharing information:

Full name

Employee identification number (which, depending on the employer, may be the employee's social security number, the last four digits of the employee's social security number, or some other identification number used by a Federal agency as an employee's identification number)

Employer name

Employer's address

Home address

Business telephone number

Employee's work email address

Transit provider name, address, and mode of transportation used for commute

Location employee commutes to/from

Number of days employee commutes per month

Subsidy amount

System identifier (number randomly generated by DOT's system and assigned to files)

Transit card number

Parking permit number

License plate number and issuing state

Parking permit holder payment status (paid/unpaid) and payment information

Bicycle benefit recipients' itemized lists of expenditures eligible for bicycle benefit

The following information may be collected and maintained about van pool operators:

Full name

Business address

First and last name of individuals who use the van pool

AUTHORITY FOR MAINTENANCE OF THE SYSTEM:

5 U.S.C. 7905; 26 U.S.C. 132; 26 CFR 132f; Executive Order 13150 (April 21, 2001)

PURPOSE:

The purpose of this system is to collect and maintain information about Federal employees' and vanpool operators who participate in carpool/vanpool, transit, parking, or bicycle benefit programs in connection with the DOT's administration of these programs for its and other Federal agency employees.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOT as a routine use pursuant to 5 U.S.C. 552a(b)(3) as follows:

1. To the Federal agency for whom DOT administers a transit benefit program, for purposes of verifying that agency's employee's participation in the program, and auditing and verifying disbursements;

2. To the operators of transit systems or vanpools for purposes of activating, distributing, and verifying benefits;

3. To the entity that manages the parking facility at the DOT Headquarters in Southeast Washington, DC, information about individuals who have delinquent daily parking fees for purpose of ensuring eligibility of daily parkers;

4. To the Department of Treasury's approved Financial Agent for purposes of distributing transit benefits;

5. To consumer reporting agencies (collecting on behalf of the United States Government) as defined in the Fair Credit Reporting Act (15 U.S.C. 1681a(f)) or the Federal Claims Collection Act of 1982 (31 U.S.C. 3701(a)(3));

6. See “Prefatory Statement of General Routine Uses” (available at http://www.dot.gov/privacy/privacyactnotices). Other possible routine uses of the information, applicable to all DOT Privacy Act systems of records, are published in the Federal Register at 75 FR 82132, December 29, 2010, and 77 FR 42796, July 20, 2012, under “Prefatory Statement of General Routine Uses” (available at http://www.dot.gov/privacy/privacyactnotices).

DISCLOSURES TO CONSUMER REPORTING AGENCIES:

Disclosures may be made from this system to consumer reporting agencies (collecting on behalf of the United States Government) as defined in the Fair Credit Reporting Act (15 U.S.C. 1681a(f)) or the Federal Claims Collection Act of 1982 (31 U.S.C. 3701(a)(3)).

POLICIES AND PRACTICES FOR STORING, RETRIEVING, ACCESSING, RETAINING, AND DISPOSING OF RECORDS IN THE SYSTEM:

STORAGE:

Hard copy or electronically. Hard copies are maintained at the System Manager address.

RETRIEVABILITY:

Records can be retrieved by employer agency name, participant name, or any other identifier in the system

SAFEGUARDS:

Records in this system are safeguarded in accordance with applicable rules and policies, including all applicable DOT automated systems security and access policies. Appropriate controls have been imposed to minimize the risk of compromising the information that is being stored. Access to records in this system is limited to those individuals who have a need to know the information for the performance of their official duties and who have appropriate permissions.

RETENTION AND DISPOSAL:

Records in this system are retained for three years and then destroyed, in accordance with General Record Schedule 9, Item 7. Source documents provided to DOT by its Federal agencies customers are considered temporary records and are destroyed not more than 120 after of receipt by DOT.

SYSTEM MANAGER(S) AND ADDRESS:

OST Parking and Transit Office, 1200 New Jersey Ave. SE., Washington, DC 20950; FAA Transit Benefit Office, 800 Independence Ave. SW., Washington, DC 20591.

NOTIFICATION PROCEDURE:

Individuals seeking notification of and access to any record contained in this system of records, or seeking to contest its content, may submit a request in writing to the OST Parking and Transit Office at the contact information provided under “System Manager and Address.” FAA employees in the National Capital Region seeking notification of and access to any record contained in this system, or seeking to contest its content, may submit a request in writing to the FAA Transit Benefit Office at the contact information provided under “System Manager and Address.”

When seeking records about yourself from this system of records or any other Departmental system of records your request must conform with the Privacy Act regulations set forth in 49 CFR part 10. You must sign your request, and your signature must either be notarized or submitted under 28 U.S.C. 1746, a law that permits statements to be made under penalty of perjury as a substitute for notarization. While no specific form is required, you may obtain forms for this purpose from the Departmental Freedom of Information Act Officer, http://www.dot.gov/foia or 202.366.4542. In addition you should provide the following:

• An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records. Without this bulleted information the component(s) may not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Records are obtain from applications submitted by individuals for parking permits, carpool and vanpool membership, ridesharing information, and fare subsidies; from notifications from other Federal agencies in the program; and from periodic certifications or recertifications and reports regarding fare subsidies.

EXEMPTIONS CLAIMED FOR THE SYSTEM:

None.

Claire W. Barrett,
Departmental Chief Privacy Officer.

[FR Doc. 2015-26974 Filed 10-22-15; 8:45 am]

BILLING CODE 4910-9X-P